ENVIRONMENTAL PROTECTION AGENCY

[OPP-50889; FRL-6794-1]

Issuance of Experimental Use Permits

AGENCY: Environmental Protection Agency (EPA).

ACTION: Notice.

SUMMARY: EPA has granted experimental use permits (EUPs) to the following pesticide applicants. An EUP permits use of a pesticide for experimental or research purposes only in accordance with the limitations in the permit.

FOR FURTHER INFORMATION CONTACT: By mail: Biopesticides and Pollution Prevention Division (7511C), Office of Pesticide Programs, Environmental Protection Agency, 1200 Pennsylvania Ave., NW., Washington, DC 20460.

In person or by telephone: Contact the designated person at the following address at the office location, telephone number, or e-mail address cited in each EUP: 1921 Jefferson Davis Hwy., Arlington, VA.

SUPPLEMENTARY INFORMATION:

I. General Information

A. Does this Action Apply to Me?

This action is directed to the public in general. Although this action may be of particular interest to those persons who conduct or sponsor research on pesticides, the Agency has not attempted to describe all the specific entities that may be affected by this action. If you have any questions regarding the information in this action, consult the designated contact person listed for the individual EUP.

B. How Can I Get Additional Information, Including Copies of this Document and Other Related Documents?

You may obtain electronic copies of this document from the EPA Internet Home Page at http://www.epa.gov/. On the Home Page select “Laws and Regulations,” “Regulations and Proposed Rules,” and then look up the entry for this document under the “Federal Register—Environmental Documents.” You can also go directly to the Federal Register listings at http://www.epa.gov/fedrgstr/.

II. EUPs

EPA has issued the following EUPs:

68467-EUP-2. Amendment. Mycogen Seeds c/o Dow AgroSciences LLC, 9330 Zionsville Road, Indianapolis, IN 46268-1054. The EUP amendment/extension for Bacillus thuringiensis Cry1F protein and the genetic material necessary for its production (Plasmid Insert PHI8999) in corn plants was published in the Federal Register of January 17, 2001 (66 FR 4020) (FRL-6740-2). This subsequent amendment allowed 55 acres from the Nebraska approved total to be planted in Puerto Rico. The transfer reduced the state acreage in Nebraska from 161.96 to 106.96 acres and increased the state acreage in Puerto Rico from 34 to 89 acres. This permit was issued with the limitation that all treated crops be destroyed or used for research purposes only. (Mike Mendelsohn; Rm. 910W13, Crystal Mall #2; telephone number: (703) 308-8715; e-mail address: mendelsohn.mike@epa.gov).

73049-EUP-1. Amendment/Extension. Valent BioSciences Corporation. This EUP allows the use of 292 pounds of the plant regulator aminoethoxyvinylglycine (AVG) on 2,650 acres of stone fruits (apricots, cherries, nectarines, peaches, plums, and prunes) to evaluate harvest benefits in an expanded use area (larger-scale field testing). The program is authorized only in the States of Alabama, Arkansas, California, Georgia, Maryland, Massachusetts, Michigan, New Jersey, New York, North Carolina, Ohio, Oregon, Pennsylvania, South Carolina, Texas, Virginia, and Washington. The EUP is effective from June 25, 2001 to December 21, 2003. A temporary tolerance of 0.170 part per million (ppm) has been established for residues of the active ingredient in or on food commodities of the stone fruit crop group. (Denise Greenway; Rm. 910W59, Crystal Mall #2; telephone number: (703) 308-8263; e-mail address: greenway.denise@epa.gov).

Persons wishing to review these EUPs are referred to the designated contact person. Inquiries concerning these permits should be directed to the persons cited above. It is suggested that interested persons call before visiting the EPA office, so that the appropriate file may be made available for inspection purposes from 8 a.m. to 4 p.m., Monday through Friday, excluding legal holidays.

Authority: 7 U.S.C. 136.

List of Subjects

Environmental protection, Experimental use permits.

Dated: August 23, 2001.
Janet L. Andersen,
Director, Biopesticides and Pollution Prevention Division, Office of Pesticide Programs.

[FR Doc. 01-22380 Filed 9-5-01; 8:45 am]

BILLING CODE 6560-50-S